DEPARTMENT OF DEFENSE

Office of the Secretary

Sunshine Act Meeting; Defense Task Force on Sexual Assault in the Military Services; Correction

AGENCY: Office of the Under Secretary of Defense (Personnel and Readiness); DoD.

ACTION: Notice of committee meeting; correction.

SUMMARY: Pursuant to the Federal Advisory Committee Act of 1972 (5 U.S.C., Appendix, as amended), the Sunshine in the Government Act of 1976 (5 U.S.C. 552b, as amended), and 41 CFR 102-3.150, The Defense Task Force on Sexual Assault in the Military Services published a document in the Federal Register of August 14, 2007 concerning the Place of Meeting, Date, Time and Purpose of the Meeting. Due to scheduling changes beyond the control of the Task Force the schedule for the Task Force's September 19, 2007 administrative working meeting must be changed. Since these changes were subsequent to the Task Force publishing its meeting notice in the Federal Register, the Committee Management Officer for the Department of Defense, pursuant to 41 CFR 102-3.150(b), waives the 15-calendar day notification requirement.

The purpose for the administrative working meeting remains unchanged and, pursuant to 41 CFR 102-3.160(b), the meeting is closed to the public.

FOR FURTHER INFORMATION CONTACT: LT Shaka Thorne, (703) 325-6640.

Correction

In the Federal Register of August 14, 2007 in FR Doc. 07-3988, on page 45422, in the first column, correct the “Place of Meeting” caption to read:

Place of Meeting:

7:30 a.m. to 9 a.m.—Pentagon Conference Center, room B2, Pentagon, Washington, DC 20301;

9 a.m. to 9:30 a.m.—Room 3E788, Pentagon, Washington, DC 20301; and

9:30 a.m. to 5:30 p.m.—Crystal Gateway One, 1235 South Clark Street, Washington Headquarters Services (WHS) Conference Room, Suite 940, Arlington, Virginia 22202.

Name of Committee: Defense Task Force on Sexual Assault in the Military Services (hereafter referred to as the Task Force)

Dated: September 7, 2007.
C.R. Choate,
Alternate OSD Federal Register Liaison Officer, Department of Defense.

[FR Doc. 07-4499 Filed 9-10-07; 1:09 pm]

BILLING CODE 5001-06-M